Proclamation 9289 of May 29, 2015

Great Outdoors Month, 2015

By the President of the United States of America

A Proclamation

America's vast and varied landscapes have always been central to the character of our Nation and the story of our people. Their rugged beauty reflects our national history and heritage—as pioneers who forged new paths and explorers who dared to venture into the unknown—and continues to inspire new generations of outdoor enthusiasts. Our mountains and rivers are part of who we are, and they are the birthright of all our people. Today, one-third of all our Nation's land is publicly owned and set aside for the use and enjoyment of every American. These are the places that make our country great, and as heirs to this extraordinary legacy of conservation, we have an obligation to make sure our children and grandchildren can enjoy the everlasting bounty of the great outdoors.

Our Nation's public lands and waters fuel our economy and support our industries. Home to living laboratories and wondrous playgrounds, they spark boundless curiosity and innovation, and in the desolate wilderness, adventurers rediscover the spirit of independence that unites all Americans. As President, I am committed to ensuring every child in America—regardless of who they are or where they live—has the opportunity to explore these treasured spaces. That is why earlier this year I launched the Every Kid in a Park initiative, which will provide all fourth graders and their families with free admission to our National Parks and other Federal lands and waters for a full year. And I invite all Americans to “Find Your Park” and celebrate some of the most beautiful landscapes and waterscapes in the world.

As a Nation, we must work to safeguard nature's splendor for generations to come. Climate change threatens our lands and waters, as well as the health and well-being of future generations. That is why my Administration has taken commonsense actions to combat climate change, ensure the resilience of our natural resources, and protect our children. I am proud to have protected more than 260 million additional acres of public lands and waters—more than any other President—which includes the establishment or expansion of 16 National Monuments through my Executive authority. For more than a half-century, the Land and Water Conservation Fund has helped to protect these iconic places and make it easier for families to spend time outside. The Fund has advanced over 40,000 local projects by making critical investments, including in battlefields, National Parks, baseball fields, and community green spaces, and I continue to call for the full and permanent funding of this vital tool of environmental stewardship.

During Great Outdoors Month, Governors, communities, business leaders, and organizations will host thousands of events across the country to celebrate our unparalleled outdoors. I encourage Americans to participate in these activities and to take the time to experience the natural grandeur of our Nation. As we enjoy these magnificent places, let us rededicate ourselves to doing our part to preserve them for all our future explorers, adventurers, and environmental stewards.

NOW, THEREFORE, I, BARACK OBAMA, President of the United States of America, by virtue of the authority vested in me by the Constitution and the laws of the United States, do hereby proclaim June 2015 as Great Outdoors Month. I urge all Americans to explore the great outdoors and to uphold our Nation's legacy of conserving our lands and waters.

IN WITNESS WHEREOF, I have hereunto set my hand this twenty-ninth day of May, in the year of our Lord two thousand fifteen, and of the Independence of the United States of America the two hundred and thirty-ninth.

[FR Doc. 2015-13746

Filed 6-2-15; 11:15 am]

Billing code 3295-F5